ENVIRONMENTAL PROTECTION AGENCY

[FRL-7890-6]

Science Advisory Board Staff Office; Notification of Upcoming Teleconferences of the Advisory Council on Clean Air Compliance Analysis and its Ecological Effects Subcommittee

AGENCY: Environmental Protection Agency (EPA).

ACTION: Notice.

SUMMARY: The EPA Science Advisory Board (SAB) Staff Office announces a public teleconference of the Ecological Effects Subcommittee (EES) of the Advisory Council on Clean Air Compliance Analysis (Council). The EES will meet to discuss its draft advisory report in response to EPA's charge questions related to the Agency's Benefits and Costs of the Clean Air Act, Revised Analytic Plan for EPA's Second Prospective Analysis, 1990-2020. The chartered Council will subsequently meet to review the draft advisory of the EES and consider it for approval and transmittal to the EPA Administrator.

DATES: The public teleconference of the Council EES will be held on April 14, 2005 from 2 p.m. to 4 p.m. (eastern time). The public teleconference of the Council will be held on May 24, 2005 from 2 p.m. to 4 p.m. (eastern time).

FOR FURTHER INFORMATION CONTACT: Members of the public who wish to obtain the call-in number or access code or submit written or brief oral comments (three minutes or less) must contact Dr. Holly Stallworth, Designated Federal Officer, at telephone/voice mail: (202) 343-9867 or via e-mail at: stallworth.holly@epa.gov. Any member of the public wishing further information regarding the SAB or the Council EES may also contact Dr. Stallworth, or visit the SAB Web site at: http://www.epa.gov/sab.

SUPPLEMENTARY INFORMATION: Background: EPA's Office of Air and Radiation (OAR) conducts periodic, scientifically reviewed studies to assess the costs and benefits of regulations promulgated under the Clean Air Act. The Council is chartered to provide advice on EPA's methods and analyses. The EES is one of the Council's three subcommittees and was formed after a “widecast” was published in a Federal Register Notice on September 9, 2003 (68 FR 53162-53164). Additional information on the EES and its advisory activity was provided in a Notice published on October 14, 2004 (69 FR 60996). Updated information on the current work of the EES was provided on November 26, 2004 (29 FR 68901).

EPA has thus far issued one retrospective analysis of the Clean Air Act covering the 1970-1990 time period and one prospective analysis covering the 1990-2010 time period. EPA is planning a second prospective analysis covering the 1990-2020 time period and has issued two analytic blueprints for this analysis. The Council provided advice on these analytic blueprints in 2001 (http://www.epa.gov/sab/pdf/councila01004.pdf) and 2004 (http://www.epa.gov/sab/pdf/council_adv_04004.pdf) but deferred three charge questions pertaining to ecological effects to the EES. The EES has responded to these three charge questions in a Draft Advisory at http://www.epa.gov/sab/panels/sba_adv_panel.htm.

The April 14 teleconference will provide the EES an opportunity to finalize its Draft Advisory. The May 24 teleconference will provide the Council an opportunity to review the EES Draft Advisory and consider it for approval and transmittal to the EPA Administrator.

Meeting agendas for both teleconferences will be posted on the SAB Web site prior to each meeting.

Procedures for Providing Public Comment. It is the policy of the EPA Science Advisory Board (SAB) Staff Office to accept written public comments of any length, and to accommodate oral public comments whenever possible. The EPA SAB Staff Office expects that public statements presented at any teleconference or meeting will not be repetitive of previously submitted oral or written statements. Oral Comments: Requests to provide oral comments must be in writing (e-mail, fax or mail) and received by Dr. Stallworth no later than five business days prior to the teleconference in order to reserve time on the meeting agenda. For teleconferences, opportunities for oral comment will usually be limited to no more than five minutes per speaker and no more than fifteen minutes total. Written Comments: Although written comments are accepted until the date of the meeting (unless otherwise stated), written comments should be received in the SAB Staff Office at least five business days prior to the meeting date so that the comments may be made available to the committee for their consideration. Comments should be supplied to the DFO at the address/contact information noted above in the following formats: one hard copy with original signature, and one electronic copy via e-mail (acceptable file format: Adobe Acrobat, WordPerfect, Word, or Rich Text files (in IBM-PC/Windows 95/98 format).

Dated: March 22, 2005.
Vanessa T. Vu,
Director, EPA Science Advisory Board Staff Office.

[FR Doc. 05-6193 Filed 3-28-05; 8:45 am]

BILLING CODE 6560-50-P